DEPARTMENT OF HEALTH AND HUMAN SERVICES

Substance Abuse and Mental Health Services Administration

Advisory Committee for Women's Services; Notice of Meeting

Pursuant to Public Law 92-463, notice is hereby given of the meeting on of the Substance Abuse and Mental Health Services Administration's (SAMHSA) Advisory Committee for Women's Services (ACWS) on August 8, 2012.

The meeting will include updates on Project Launch and the Fetal Alcohol Syndrome Disorder Center for Excellence and discussions regarding Medicated Assisted Treatment and Pregnancy.

The meeting is open to the public and will be held online via Microsoft Office 2007 Live Meeting. Interested persons may present data, information, or views, orally or in wrtining, on issues pending before the committee. Written submissions should be forwarded to the contact person on or before August 1, 2012. Oral presentations from the public will be scheduled at the conclusion of the meeting. Individuals interested in making oral presentations are encouraged to notify the contact on or before August 1, 2012. Five minutes will be allotted for each presentation.

Substantive program information may be obtained after the meeting by accessing the SAMHSA Committee Web site, http://nac.samhsa.gov/, or by contacting Geretta P. Wood.

Committee Name: Substance Abuse and Mental Health Services Administration Advisory Committee for Women's Services (ACWS)

Date/Time/Type: August 8, 2012 from 10:00 a.m. to 5:00 p.m.EDT: (OPEN)

Place: Live meeting webcast: https://www.mymeetings.com/nc/join.php?i=PW8938830&p=2727117&t=c

Contact: Geretta Wood, Committee Management Officer and Designated Federal Official, SAMHSA National Advisory Council, SAMHSA's Advisory Committee for Women's Services, 1 Choke Cherry Road, Rockville, Maryland 20857, Telephone: (240) 276-2326, Fax: (240) 276-2253 and Email: geretta.wood@samhsa.hhs.gov.

Summer King,
Statistician, Substance Abuse and Mental Health, Services Administration.

[FR Doc. 2012-17689 Filed 7-19-12; 8:45 am]

BILLING CODE 4162-20-P